DEPARTMENT OF COMMERCE

National Oceanic and Atmospheric Administration

RIN 0648-XE37

Marine Mammals; File No. 473-1700-02

AGENCY: National Marine Fisheries Service (NMFS), National Oceanic and Atmospheric Administration (NOAA), Commerce.

ACTION: Notice; issuance of permit amendment.

SUMMARY: Notice is hereby given that Janice Straley, University of Alaska, 1332 Seward Ave, Sitka, AK 99835, has been issued an amendment to Permit No. 473-1700-01 to conduct research on marine mammals.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

FOR FURTHER INFORMATION CONTACT: Jaclyn Daly or Amy Sloan, (301)713-2289.

SUPPLEMENTARY INFORMATION: On December 26, 2007, notice was published in the Federal Register (72 FR 72997) that a request for a scientific research permit amendment to take sperm whales and killer whales had been submitted by the above-named individual. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The researchers previous permit, 473-1700-01, authorized research on humpback whales (Megaptera novaeangliae), gray whales (Eschrichtius robustus) , minke whales (Balaenoptera acustorostrata), sperm whales (Physeter macrocephalus) , fin whales (Balaenoptera physalus), and killer whales (Orcinus orca). Incidental harassment of harbor porpoise (Phocoena phocoena), Dall's porpoise (P. dalli), Atlantic white-sided dolphins (Lagenorhynchus obliquidens), Steller sea lions (Eumetopias jubatus), harbor seals (Phoca vitulina) and Northern fur seals (Callorhinus ursinus) is also authorized. Research methods include photo-identification, passive acoustic recording, behavioral observations, suction-cup tagging (including Crittercam), and biopsy. The permit amendment includes those activities and the following: an increase in the number of sperm whales that may be suction-cup tagged to 50 (an increase of 25 animals); attachment of satellite tags to 20 sperm whales and 20 killer whales; and modification to operations of fishing vessel methods, which could result in the taking of 40 sperm whales by Level B harassment, annually. All research will be conducted in the Gulf of Alaska. The permit amendment also extends the expiration date by one year, to June 30, 2010.

In compliance with the National Environmental Policy Act of 1969 (42 U.S.C. 4321 et seq.), a supplemental environmental assessment was prepared analyzing the effects of the permitted activities. After a Finding of No Significant Impact, the determination was made that it was not necessary to prepare an environmental impact statement.

Issuance of this permit, as required by the ESA, was based on a finding that such permit: (1) was applied for in good faith; (2) will not operate to the disadvantage of such endangered species; and (3) is consistent with the purposes and policies set forth in section 2 of the ESA.

Dated: February 18, 2009.
P. Michael Payne,
Chief, Permits, Conservation and Education Division, Office of Protected Resources, National Marine Fisheries Service.

[FR Doc. E9-3923 Filed 2-23-09; 8:45 am]

BILLING CODE 3510-22-S